DEPARTMENT OF DEFENSE

Department of the Air Force

[No. USAF-2007-0026]

Proposed Collection; Comment Request

AGENCY: Department of the Air Force, DoD.

ACTION: Notice.

In compliance with Section 3506(c)(2)(A) of the Paperwork Reduction Act of 1995, the Secretary of the Air Force, Office of Communication, Research and Assessment Division (SAF/CMA) announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 26, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Lt Col Robert Pope, Deputy Chief, Research and Assessment Division, SAF/CMA, Room 5C279, 1690 Air Force Pentagon, Washington, DC 20330-1690, or telephone at (703) 697-1046.

Title; Associated Form; and OMB Number: Presentation Comment card and Air Force Week Event Comment Card; OMB Number 0701-TBD.

Needs and Uses: The information collection requirement is necessary to obtain audience feedback data in order to improve future Air Force presentations and future Air Force Week on-base public events. The data that is collected will be used to improve these communication products. The respondents will be attendees at these events and participation will be anonymous and voluntary.

Affected Public: Individuals or households.

Annual Burden Hours: 200.

Number of Respondents: 2,000.

Responses Per Respondent: 1.

Average Burden Per Response: 6 minutes.

Frequency: On occasion.

SUPPLEMENTARY INFORMATION:

Summary of Information Collection

The information will be aggregated and used by the Secretary of the Air Force, Office of Communication, Research and Assessment Division (SAF/CMA) to provide substantive feedback to the organizers of presentations and events so that changes can be made according to attendee opinions.

Dated: August 21, 2007.
Patricia L. Toppings,
Alternate OSD Federal Register Liaison Officer, Department of Defense.

[FR Doc. 07-4177 Filed 8-24-07; 8:45 am]

BILLING CODE 5001-06-M